NATIONAL FOUNDATION ON THE ARTS AND THE HUMANITIES

Meeting of the National Museum and Library Services Board

AGENCY: Institute of Museum and Library Services.

ACTION: Notice of meeting.

SUMMARY: This notice sets forth the agenda of a forthcoming meeting of the National Museum and Library Services Board. This notice also describes the function of the Board. Notice of this meeting is required under the Sunshine in Government Act.

Time/Dates: 9 a.m. to 12:30 p.m. on Wednesday, June 22, 2005.

Agenda: Committee Meetings of the Fifth Meeting of the National Museum and Library Service Board.

9 a.m.-10:30 a.m.—Executive Session (Closed to the Public).

11 a.m.-12:30 p.m.—Policy and Planning Committee (Open to the Public).

I. Staff Reports.

II. Other Business.

11 a.m.-12:30 p.m.—Partnerships and Government Affairs Committee (Open to the Public).

I. Staff Reports.

II. Other Business.

ADDRESSES: The Allerton Crowne Plaza, 701 N. Michigan Avenue, Chicago, IL, (212) 440-1500.

Time/Dates: 9 a.m. to 12:30 p.m. on Thursday, June 23, 2005.

Agenda: Fifth Meeting of the National Museum and Library Service Board (Open to the Public).

I. Welcome.

II. Approval of Minutes.

III. Programs Reports.

IV. Committee Reports.

V. Board program: Strategic Imperatives for Libraries.

VI. Other Business.

VII. Adjourn.

ADDRESSES: The Allerton Crowne Plaza, 701 N. Michigan Avenue, Chicago, IL, (212) 440-1500.

FOR FURTHER INFORMATION CONTACT: Elizabeth Lyons, Special Assistant to the Director, Institute of Museum and Library Services, 1800 M Street, NW., 9th Floor, Washington, DC 20036—(202) 653-4676.

SUPPLEMENTARY INFORMATION: The National Museum and Library Services Board is established under the Museum and Library Services Act, 20 U.S.C. 9101 et seq. The Board advises the Director of the Institute on general policies with respect to the duties, powers, and authorities related to Museum and Library Services. The executive session from 9 a.m. to 10:30 a.m. on Wednesday, June 22, 2005, will be closed pursuant to subsections (c)(4) and (c)(6) of section 552b of Title 5, United States Code because the Board will consider information that may disclose: Trade secrets and commercial or financial information obtained from a person and privileged or confidential; and information of a personal nature the disclosure of which would constitute a clearly unwarranted invasion of personal privacy. The meetings from 10 a.m. until 12:30 p.m. on Wednesday, June 22, 2005, and the meeting from 9 a.m. to 12:30 p.m. on Thursday, June 23, 2005, are open to the public. If you need special accommodations due to a disability, please contact: Institute of Museum and Library Services, 1100 Pennsylvania Avenue, NW., Washington, DC 20506—(202) 653-4657—TDD (202) 653-4699 at least seven (7) days prior to the meeting date.

Dated: June 1, 2005.
Teresa LaHaie,
Administrative Officer, National Foundation on the Arts and the Humanities, Institute of Museum and Library Services.

[FR Doc. 05-11259 Filed 6-2-05; 11:10 am]

BILLING CODE 7036-01-M